NUCLEAR REGULATORY COMMISSION

10 CFR Part 50

[NRC-2011-0088]

RIN 3150-AI97

Incorporation by Reference of American Society of Mechanical Engineers Codes and Code Cases

AGENCY: Nuclear Regulatory Commission.

ACTION: Proposed rule; public meeting.

SUMMARY: The U.S. Nuclear Regulatory Commission (NRC) plans to hold a public meeting to discuss proposed amendments to its regulations to incorporate by reference seven recent editions and addenda to the American Society of Mechanical Engineers (ASME) codes for nuclear power plants, an ASME standard for quality assurance, and four ASME code cases. The purpose of the meeting is to discuss public comments on the proposed rule, in order to enhance the NRC's understanding of the comments.

DATES: The public meeting will be held on March 2, 2016. See Section II, Public Meeting, of this document for more information on the meeting.

ADDRESSES: Please refer to Docket ID NRC-2011-0088 when contacting the NRC about the availability of information regarding this meeting. You may obtain publicly-available information related to this meeting using any of the following methods:

• Federal Rulemaking Web site: Go to http://www.regulations.gov and search for Docket ID NRC-2011-0088. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Jennifer C. Tobin, telephone: 301-415-2328, email: Jennifer.Tobin@nrc.gov or Keith Hoffman, telephone: 301-415-1294, email: Keith.Hoffman@nrc.gov. Both are staff of the Office of Nuclear Reactor Regulation, U.S. Nuclear Regulatory Commission, Washington, DC 20555-0001.

SUPPLEMENTARY INFORMATION:

I. Background

On September 18, 2015 (80 FR 56820), the NRC published for public comment a proposed rule to amend its regulations in § 50.55a of title 10 of the Code of Federal Regulations (10 CFR). The public comment period for the proposed rule closed on December 2, 2015. The goal of this rulemaking is to revise the NRC's regulations to incorporate by reference seven recent editions and addenda to the ASME codes for nuclear power plants and an ASME standard for quality assurance. The NRC is also proposing to incorporate by reference four ASME code cases.

II. Public Meeting

The NRC plans to hold the public meeting on March 2, 2016, from 1:00 p.m. to 4:30 p.m. (EST). Participation will be via teleconference and Webinar only. The purpose of the meeting is to discuss public comments on the proposed rule in order to enhance the NRC's understanding of the associated comments. Stakeholders will have an opportunity to ask questions and seek clarification from the NRC staff about the proposed rule. The NRC will consider the information developed at the meeting in developing the final rule. The final rulemaking will not include formal comment responses to any oral comments made at this meeting. In addition, the NRC is not providing an additional opportunity to submit written public comments in connection with this meeting.

Information for the teleconference and Webinar is available in the meeting notice, which can be accessed through the NRC's public Web site at: http://meetings.nrc.gov/pmns/mtg. Participants must register at the Internet link in the meeting notice to participate in the Webinar.

Additional details regarding the meeting will be posted at least 10 days prior to the public meeting on the NRC's public meeting Web site at: http://meetings.nrc.gov/pmns/mtg.

Dated at Rockville, Maryland, this 12th day of February 2016.
For the Nuclear Regulatory Commission.
Lawrence E. Kokajko,
Director, Division of Policy and Rulemaking, Office of Nuclear Reactor Regulation.

[FR Doc. 2016-03593 Filed 2-19-16; 8:45 am]

BILLING CODE 7590-01-P